DEPARTMENT OF ENERGY

Federal Energy Regulatory Commission

[Docket No. RP00-618-001]

U-T Offshore System, L.L.C.; Notice of Compliance Filing

November 28, 2000.

Take notice that on November 21, 2000, U-T Offshore System, L.L.C. (UTOS), tendered for filing as part of its FERC Gas Tariff, Fourth Revised Volume No. 1, the following revised tariff sheets, with an effective date of November 1, 2000:

Substitute Second Revised Sheet No. 61

Substitute First Revised Sheet No. 61-A

UTOS states that the tendered sheets are filed in compliance with the Commission's October 27, 2000 Order in the referenced dockets, regarding the netting and trading of imbalances on UTOS' system.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30743 Filed 12-1-00; 8:45 am]

BILLING CODE 6717-01-M